ENVIRONMENTAL PROTECTION AGENCY

[IL228-2; FRL-8272-7]

Notice of Prevention of Significant Deterioration Final Determination for Indeck-Elwood, LLC

AGENCY: Environmental Protection Agency (EPA).

ACTION: Notice of withdrawal action.

SUMMARY: This notice announces that EPA is withdrawing the Notice of Final Agency Action of November 22, 2006 (71 FR 67560), for the Indeck-Elwood, LLC Prevention of Significant Deterioration (PSD) permit, because the Environmental Appeals Board (EAB) remanded the permit in part. On September 27, 2006, the EAB of the EPA denied in part, and remanded in part, a petition for review of a federal PSD permit issued to Indeck-Elwood, LLC by the Illinois Environmental Protection Agency. According to 40 CFR part 124, a final permit decision shall be issued by the Regional Administrator when the EAB issues a decision on the merits of the appeal and the decision does not include a remand of the proceedings. Because the EAB's decision on this permit appeal included a partial remand, there is not yet a final agency action subject to review.

ADDRESSES: The documents relevant to the above action are available for public inspection during normal business hours at the following address: Environmental Protection Agency, Region 5, 77 West Jackson Boulevard (AR-18J), Chicago, Illinois 60604. To arrange viewing of these documents, call Constantine Blathras at (312) 886-0671.

FOR FURTHER INFORMATION CONTACT: Constantine Blathras, Air and Radiation Division, Air Programs Branch, Environmental Protection Agency, Region 5, 77 W. Jackson Boulevard (AR-18J), Chicago, Illinois 60604. Anyone who wishes to review the EAB decision can obtain it at http://www.epa.gov/eab/.

Dated: January 17, 2007.
Bharat Mathur,
Deputy Regional Administrator, Region 5.

[FR Doc. E7-920 Filed 1-22-07; 8:45 am]

BILLING CODE 6560-50-P